DEPARTMENT OF VETERANS AFFAIRS

Privacy Act of 1974; System of Records

AGENCY: Department of Veterans Affairs (VA).

ACTION: Notice of Amendment to System of Records.

SUMMARY: As required by the Privacy Act of 1974, 5 U.S.C. 552a(e), notice is hereby given that the Department of Veterans Affairs (VA) is amending the system of records currently entitled “Veterans, Fabricator and Employee Prosthetic Records—VA” (33VA112) as set forth in the Federal Register 40 FR 38095 dated 8/26/75. VA is amending the system by revising the System Name and System Number, including Purpose, and revising the paragraphs for System Location, Categories of Individuals Covered by the System, Categories of Records of the System, Authority for Maintenance of the System, and Policies and Practices for Storing, Retrieving, Retaining, and Disposing of Records in the System, including Storage, Retrievability and Safeguards. These changes reflect a transition to a new electronic system. VA is republishing the system notice in its entirety.

DATES: Comments on the amendment of this system of records must be received no later than May 18, 2001. If no public comment is received, the amended system will become effective May 18, 2001.

ADDRESSES: Written comments concerning the proposed new system of records may be submitted to the Office of Regulations Management (02D), Department of Veterans Affairs, 810 Vermont Avenue, NW, Washington, DC 20420. Comments will be available for public inspection at the above address in the Office of Regulations Management, Room 1158, between the hours of 8 a.m. and 4:30 p.m., Monday through Friday (except holidays).

FOR FURTHER INFORMATION CONTACT: Veterans Health Administration (VHA) Privacy Act Officer, Department of Veterans Affairs, 810 Vermont Avenue, NW, Washington, DC 20420, telephone (727) 320-1839.

SUPPLEMENTARY INFORMATION: The purpose of this amendment to the system of records is to signify enhancements to this system to include additional capabilities for further management and clinical analyses. VHA is amending System Name and System Number from “Veterans, Fabricator and Employee Prosthetic Records—VA” (33VA112) to “National Prosthetic Patient Database (NPPD)—VA” (33VA113).

The Categories of Individuals Covered by the System has been amended to cover a broader group of VA employees and VA beneficiaries. The original system captured beneficiaries primarily in receipt of a prosthesis or orthosis, and now the system will capture patients in receipt of all prosthetic, orthotic, sensory aids, and rehabilitative and home medical equipment. The system also captures employees responsible for issuing the appliance or purchase order, i.e., purchasing agent, clerk, prosthetic representative, and not just the orthotist and/or prosthetist. The Categories of Records has been amended to reflect the information collected in NPPD. In moving toward an electronic system, more data will be kept in NPPD. The NPPD contains additional records that allow station, VISN, and national reports on cost, average cost, summary of all prosthetic activity, appliance usage, responsible purchasing agents, manufacturers utilized, unique social security numbers, Health Care Financing Administration Common Procedure Coding System (HCPCS) codes utilized, item-specific data for items furnished to veteran beneficiaries, data validation and standardization. The Authority to Maintain the System has been updated to reflect current statutes.

The records or information in this system will be used to furnish administrative and clinical statistical procurement and prescription information, including total cost and summary of activity, including equipment usage, data to the VA and other health care providers, both Federal and non-Federal, to aid in furthering the improvement of health care, research and education. The NPPD will generate data to provide ad-hoc reporting for clinical and management departments; provide insight into stations' purchasing practices and utilization of contracts; improve budget management; conduct reviews of prescribing practices/best practices; help to develop consistency in the way that service is provided; and help to establish consistent policies and procedures.

Storage has been updated to reflect compact disk usage and removal of magnetic tape. Retrievability of the records has been amended since information will be retrieved in NPPD by unique patient identification number, other than social security number. Safeguards have been amended to reflect current security policies. The System Manager has been amended to reflect the national office responsible for the records. The Notification Procedures and Record Access Procedures have been amended to correspond to the new system manager. The Record Source Categories have been amended to represent the sources of data for the NPPD.

The notice of intent to publish and an advance copy of the system notice have been sent to the appropriate Congressional committees and to the Director of the Office of Management and Budget (OMB) as required by 5 U.S.C. 552a(r) (Privacy Act) and guidelines issued by OMB (61 FR 6428), February 20, 1996.

Approved: March 27, 2001.
Anthony J. Principi,
Secretary of Veterans Affairs.

33VA113

SYSTEM NAME:

National Prosthetic Patient Database (NPPD)-VA.

SYSTEM LOCATION:

Records are maintained at Department of Veterans Affairs (VA) Medical Centers' databases. Extracts are maintained at the Austin Automation Center (AAC), Austin, Texas, and Hines Information Service Center, Hines, Illinois. VA health care facility address locations are listed in VA Appendix I of the Biennial Privacy Act Issuances publication.

CATEGORIES OF INDIVIDUALS COVERED BY THE SYSTEM:

Contracted fabricators of prosthetic and orthotic appliances; vendors and manufacturers of durable medical equipment and sensory-neural aids; medical supply companies; VA beneficiaries; and VA employees.

CATEGORIES OF RECORDS IN THE SYSTEM:

VA field facility ordering the orthotic device; Patient Identification Number; Health Care Financing Administration Common Procedure Coding System (HCPCS); item purchased/issued to patient; cost; quantity; type of issue (initial/replace/repair/spare); patient eligibility category (service-connected, prisoner of war, aid and attendance); responsible VA procurement officer or representative; order creation date; order close/delivery date; calculated processing days; transaction/purchase order number; type of form used to purchase item (VAF 2421, PC2421, VAF 2529, VAF 2914, etc.); and vendor/contractor name. All other patient information, i.e., name, address, telephone number, can be retrieved by prosthetic program officials in VA Headquarters by using the unique Patient Identification Number assigned to the patient in NPPD.

AUTHORITY FOR MAINTENANCE OF THE SYSTEM:

Title 38, United States Code, Section 527.

PURPOSE(S):

The records or information in this system will be used to furnish administrative and clinical statistical procurement and prescription information, including total cost and summary of activity, including equipment usage, data to the VA and other health care providers, both Federal and non-Federal, to aid in furthering the improvement of health care, research and education.

ROUTINE USES OF RECORDS MAINTAINED IN THE SYSTEM, INCLUDING CATEGORIES OF USERS AND THE PURPOSES OF SUCH USES:

1. In the event that a system of records maintained by this agency to carry out its functions indicates a violation or potential violation of law, whether civil, criminal or regulatory in nature, and whether arising by general statute or particular program statute, or by regulation, rule or order issued pursuant thereto, the relevant records in the system of records may be referred at VA's initiative, as a routine use, to the appropriate agency, whether Federal, State, local or foreign, charged with the responsibility of investigating or prosecuting such violation or charged with enforcing or implementing the statute, rule, regulation or order issued pursuant thereto. However, names and addresses of veterans and their dependents will be released only to Federal entities.

2. To furnish administrative and clinical statistical procurement and prescription information, including total cost and summary of activity, including equipment usage, data to VA and other health care providers, both Federal and non-Federal, to aid in furthering the improvement of health care, research and education.

3. To provide statistical and other information in response to legitimate and reasonable requests as approved by appropriate VA authorities.

4. Disclosure may be made to a Congressional office from the record of an individual in response to an inquiry from the congressional office made at the request of that individual.

5. Disclosure may be made to National Archives and Records Administration (NARA) and General Services Administration (GSA) in records management inspections conducted under authority of Title 44 United States Code.

POLICIES AND PRACTICES FOR STORING, RETRIEVING, ACCESSING, RETAINING, AND DISPOSING OF RECORDS IN THE SYSTEM:

STORAGE:

Compact and magnetic disk.

RETRIEVABILITY:

Indexed by Patient Identification Number for VA prosthetic personnel.

SAFEGUARDS:

1. Access to VA working and storage areas is restricted to VA employees on a “need to know” basis. Generally, VA file areas are locked after normal duty hours and are protected from outside access by the Federal Protective Service. Strict control measures are enforced to ensure that disclosure is limited to a “need to know” basis. Physical access to the AAC is generally restricted to AAC staff, VA Headquarters employees, custodial personnel, Federal Protective Service and authorized operational personnel through electronic locking devices. All other persons gaining access to the computer rooms are escorted.

2. Access to computer rooms at health care facilities is generally limited by appropriate locking devices and restricted to authorized VA employees and vendor personnel. ADP peripheral devices are placed in secure areas (areas that are locked or have limited access) or are otherwise protected. Information in the Veterans Health Information System and Technology Architecture (VistA) may be accessed by authorized VA employees. Access to file information is controlled at two levels; the systems recognize authorized employees by a series of individually-unique passwords/codes as a part of each data message, and the employees are limited to only that information in the file which is needed in the performance of their official duties. Access to information stored on automated storage media at other VA locations is controlled by individually-unique passwords/codes.

RETENTION AND DISPOSAL:

Records are retained until special release by the Prosthetic and Sensory Aids Service Strategic Healthcare Group, VA Central Office, 810 Vermont Ave., NW, Washington, DC 20420.

SYSTEM MANAGER(S) AND ADDRESS:

Chief Consultant, Prosthetic and Sensory Aids Service Strategic Healthcare Group (113), Department of Veterans Affairs, 810 Vermont Avenue, NW, Washington, DC 20420.

NOTIFICATION PROCEDURE:

Individuals seeking information concerning the existence and content of a record pertaining to themselves must submit a written request or apply in person to the VA health care facility where they received the orthotic/prosthetic device/appliance/equipment. All inquiries must reasonably identify the records involved and the approximate date that medical care was provided. Inquiries should include the individual's full name, and identifying characteristics.

RECORD ACCESS PROCEDURES:

Individuals seeking information regarding access to and contesting of a VA Prosthetic-related record may write, call, or visit the VA facility where medical care was provided.

CONTESTING RECORD PROCEDURES:

(See Record Access Procedures above.)

RECORD SOURCE CATEGORIES:

VistA (79VA19), Patient Medical Records (24VA136), and veterans' records.

[FR Doc. 01-9645 Filed 4-17-01; 8:45 am]

BILLING CODE 8320-01-P